Title 3—

The President

Proclamation 10084 of September 25, 2020

National Hunting and Fishing Day, 2020

By the President of the United States of America

A Proclamation

On National Hunting and Fishing Day, we pause to reflect on the breathtaking natural wonders and resources that abound throughout our great Nation. American hunters, anglers, and outdoorsmen are entrusted with stewardship of these treasured blessings, sustaining our lands and waters through recreation and conservation efforts. These men and women also make substantial contributions to local economies, supporting individuals and communities and preserving longstanding American sporting traditions.

As they have been since the founding of our country, hunting and fishing remain an integral part of the American identity. In addition to being great stewards of the land, hunters and anglers are also keepers of our rich ecological and conservation traditions, which have been passed down through generations. Hunting and fishing have long functioned as an effective means to manage certain wildlife populations, and time spent in nature promotes awareness of best practices for effectively managing ecosystems throughout the United States. In addition, sales of licenses, tags, and other permits support conservation efforts and contribute to research that furthers our understanding of how to best care for our natural environment. The men and women who hunt and fish our lands and waters cultivate a deep respect for our natural resources and foster greater understanding of mankind's relation to nature, sustaining a uniquely American ethos rooted in the values of individualism and self-sufficiency.

In addition to the importance of hunting and fishing to our cultural heritage, hunters and anglers also help fuel our economy. In 2017, outdoor recreation in the United States supported 5.2 million jobs. These jobs and the activities they support contribute more than $70 billion to our economy and account for more than 2 percent of the United States' gross domestic product. Many hunting and fishing jobs are located in rural communities, focusing economic activity in areas that are often in need of investment and support.

Because of the vital importance of hunting and fishing to the health of our lands and waters and the strength of our national economy, I have championed conservation efforts and supported American outdoorsmen since my first day in office. In March of 2019, I signed into law the John D. Dingell, Jr. Conservation, Management, and Recreation Act, marking the most important public lands designation in a decade. This legislation, combined with other actions taken at my direction by the Department of the Interior, has expanded or proposed to expand nearly 4 million acres across the country to hunting and fishing. To further preserve our Nation's natural resources for the American people, this past August I signed the Great American Outdoors Act—the largest single investment ever in America's public lands. This historic legislation provides $900 million a year in permanent funding to the Land and Water Conservation Fund, allocates $9.5 billion over 5 years to restore our public lands, and won the endorsement of more than 850 conservation groups and 43 sportsmen and sportswomen groups.

On National Hunting and Fishing Day, we emphasize our appreciation for the majestic natural beauty of our Nation, and we celebrate the stewards of the great American traditions that are tied to our lands and waters. Together, we commit to supporting hunting and fishing throughout the United States and passing on these cherished traditions to future generations, securing a future for sportsmanship and conservation in our country.

NOW, THEREFORE, I, DONALD TRUMP, President of the United States of America, by virtue of the authority vested in me by the Constitution and the laws of the United States, do hereby proclaim September 26, 2020, as National Hunting and Fishing Day. I call upon the people of the United States to observe this day by sharing the great outdoors with your family and friends, and practice conservation and preservation with appropriate programs, ceremonies, and activities.

IN WITNESS WHEREOF, I have hereunto set my hand this twenty-fifth day of September, in the year of our Lord two thousand twenty, and of the Independence of the United States of America the two hundred and forty-fifth.

[FR Doc. 2020-21792

Filed 9-29-20; 11:15 am]

Billing code 3295-F0-P